INTERNATIONAL TRADE COMMISSION

[Investigation Nos. 731-TA-678, 679, 681, and 682 (Third Review)]

Stainless Steel Bar From Brazil, India, Japan, and Spain; Determination

Determination

On the basis of the record ¹ developed in the subject five-year reviews, the United States International Trade Commission (Commission) determines, pursuant to section 751(c) of the Tariff Act of 1930 (19 U.S.C. 1675(c)), that revocation of the antidumping duty orders on stainless steel bar from Brazil, India, Japan, and Spain would be likely to lead to continuation or recurrence of material injury to an industry in the United States within a reasonably foreseeable time.²

¹ The record is defined in sec. 207.2(f) of the Commission's Rules of Practice and Procedure (19 CFR 207.2(f)).

² Commissioners Deanna Tanner Okun and Daniel R. Pearson voted in the affirmative with respect to India and Japan and in the negative with respect to Brazil and Spain.

Background

The Commission instituted these reviews on December 1, 2011 (76 FR 74807) and determined on March 5, 2012 that it would conduct expedited reviews (77 FR 18861, March 28, 2012).

The Commission transmitted its determinations in these reviews to the Secretary of Commerce on July 26, 2012. The views of the Commission are contained in USITC Publication 4341 (July 2012), entitled Stainless Steel Bar from Brazil, India, Japan, and Spain: Investigation Nos. 731-TA-678-679 and 681-682 (Third Review).

Issued: July 26, 2012.
By order of the Commission.
William R. Bishop,
Hearings and Meetings Coordinator.

[FR Doc. 2012-18697 Filed 7-31-12; 8:45 am]

BILLING CODE 7020-02-P